DEPARTMENT OF ENERGY

10 CFR Chs. II, III, and X

48 CFR Ch. 9

Unified Agenda of Federal Regulatory and Deregulatory Actions

AGENCY: Department of Energy.

ACTION: Semiannual Regulatory Agenda.

SUMMARY: The Department of Energy (DOE) has prepared and is making available its portion of the semi-annual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act, as amended, and programmatic needs of DOE offices.

The internet is the basic means for disseminating the Agenda and providing users the ability to obtain information from the Agenda database. DOE's Spring 2023 Agenda can be accessed online by going to www.reginfo.gov.

DOE's regulatory flexibility agenda is made up of rulemakings setting energy efficiency standards and requirements applicable to DOE sites.

Samuel Walsh,
General Counsel.

Energy Efficiency and Renewable Energy—Final Rule Stage
Sequence No. | Title | Regulation Identifier No.
60 | Energy Conservation Standards for Residential Conventional Cooking Products | 1904-AD15
61 | Energy Conservation Standards for Residential Non-Weatherized Gas Furnaces and Mobile Home Gas Furnaces | 1904-AD20
62 | Energy Conservation Standards for Commercial Water Heating-Equipment | 1904-AD34
63 | Energy Conservation Standards for Consumer Clothes Washers | 1904-AD98
64 | Test Procedure for Consumer Water Heaters and Residential-Duty Commercial Water Heaters | 1904-AE77

Energy Efficiency and Renewable Energy—Long-Term Actions
Sequence No. | Title | Regulation Identifier No.
65 | Energy Conservation Standards for Miscellaneous Residential Refrigeration | 1904-AF00

Energy Efficiency and Renewable Energy—Completed Actions
Sequence No. | Title | Regulation Identifier No.
66 | Energy Conservation Program: Energy Conservation Standards for Manufactured Housing | 1904-AF53

Departmental and Others—Final Rule Stage
Sequence No. | Title | Regulation Identifier No.
67 | Statutory Updates to the Advanced Technology Vehicles Manufacturing Incentive Program | 1901-AB60

DEPARTMENT OF ENERGY (DOE)

Energy Efficiency and Renewable Energy (EE)

Final Rule Stage

60. Energy Conservation Standards for Residential Conventional Cooking Products [1904-AD15]

Legal Authority: 42 U.S.C. 6295(m)(1); 42 U.S.C. 6292 (a)(10); 42 U.S.C. 6295(h)

Abstract: The Energy Policy and Conservation Act (EPCA), as amended by Energy Independence and Security Act of 2007 (EISA), prescribes energy conservation standards for various consumer products, including consumer conventional cooking products. EPCA also requires the U.S. Department of Energy (DOE) to periodically determine whether more stringent standards would be technologically feasible and economically justified and would result in a significant conservation of energy. In this rulemaking, DOE proposes new and amended energy conservation standards for consumer conventional cooking products and tentatively concludes that the proposed standards represent the maximum improvement in energy efficiency that is technologically feasible and economically justified, and would result in the significant conservation of energy.

Timetable:

Action | Date | FR Cite
Request for Information (RFI) | 02/12/14 | 79 FR 8337
RFI Comment Period End | 03/14/14
RFI Comment Period Extended | 03/03/14 | 79 FR 11714
RFI Comment Period Extended End | 04/14/14
NPRM and Public Meeting | 06/10/15 | 80 FR 33030
NPRM Comment Period Extended | 07/30/15 | 80 FR 45452
NPRM Comment Period Extended End | 09/09/15
Supplemental NPRM (SNPRM) | 09/02/16 | 81 FR 60784
SNPRM Comment Period Extended | 09/30/16 | 81 FR 67219
SNPRM Comment Period Extended End | 11/02/16
Notice of Proposed Determination and Request for Comment | 12/14/20 | 85 FR 80982
Notice of Proposed Determination Comment Period End | 03/01/21
Supplemental NPRM | 02/01/23 | 88 FR 6818
Supplemental NPRM; Correction | 02/28/23 | 88 FR 12603
Supplemental NPRM; Extension of Public Comment Period | 03/30/23 | 88 FR 19122
Supplemental NPRM; Extension of Public Comment Period End | 04/17/23
Notification of Data Availability (NODA) | 02/28/23 | 88 FR 12603
NODA Comment Period End | 04/03/23
Final Action | 01/00/24

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD15

61. Energy Conservation Standards for Residential Non-Weatherized Gas Furnaces and Mobile Home Gas Furnaces [1904-AD20]

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including the residential furnaces which are the subject of this rulemaking. (42 U.S.C. 6292(a)(5)) EPCA also requires the U.S. Department of Energy (DOE) to determine whether more-stringent amended standards would be technologically feasible and economically justified and would save a significant amount of energy (42 U.S.C. 6295(o)(2)(A) and (3)(B)). EPCA specifically provides that DOE must conduct two rounds of energy conservation standards rulemakings for the residential furnaces at issue (42 U.S.C. 6295(f)(4)(B) and (C)), and the statute also requires that not later than six years after issuance of any final rule establishing or amending a standard, DOE must publish either a notice of determination that standards for the product does not need to be amended, or a notice of proposed rulemaking (NOPR) including new proposed energy conservation standards (42 U.S.C. 6295(m)(1)). This rulemaking is being undertaken pursuant to the statutorily-required second round of rulemaking for non-weatherized gas furnaces (NWGFs) and mobile home gas furnaces (MHGFs), and once completed, it will also satisfy the statutorily-required six-year-lookback review. In the July 7, 2022 NOPR, DOE proposes amended and new energy conservation standards for NWGFs and MHGFs pursuant to a court-ordered remand of DOE's 2011 rulemaking for these products and other statutory requirements. 87 FR 40590. Specifically, the NOPR proposes amended active mode annual fuel utilization efficiency (AFUE) standards at 95 percent for both NWGFs and MHGFs. It also proposes amended standby mode and off mode standards (in watts) at 8.5 watts for both NWGFs and MHGFs. If finalized, the proposed standards would apply to all NWGFs and MHGFs manufactured in, or imported into, the United States starting on the date five years after the publication of the final rule for this rulemaking.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15
Notice of Data Availability (NODA) | 09/14/15 | 80 FR 55038
NODA Comment Period End | 10/14/15
NODA Comment Period Reopened | 10/23/15 | 80 FR 64370
NODA Comment Period Reopened End | 11/06/15
Supplemental NPRM and Notice of Public Meeting | 09/23/16 | 81 FR 65720
Supplemental NPRM Comment Period End | 11/22/16
SNPRM Comment Period Reopened | 12/05/16 | 81 FR 87493
SNPRM Comment Period End | 01/06/17
Notice of NPRM Withdrawal | 01/15/21 | 86 FR 3873
NPRM | 07/07/22 | 87 FR 40590
NPRM Comment Period Extended, NODA and Notice of Public Meeting | 08/30/22 | 87 FR 52861
NPRM Comment Period Extended End | 10/06/22
Final Action | 09/00/23

Regulatory Flexibility Analysis Required: Yes.

Agency Contact: Julia Hegarty, Department of Energy, 1000 Independence Avenue SW, Washington, DC 20585, Phone: 240 597-6737, Email: julia.hegarty@ee.doe.gov.

RIN: 1904-AD20

62. Energy Conservation Standards for Commercial Water Heating-Equipment [1904-AD34]

Legal Authority: 42 U.S.C. 6313(a)(6)(C)(i) and (vi)

Abstract: The U.S. Department of Energy (DOE) is undertaking a rulemaking to amend energy conservation standards for commercial water heaters. Once completed, this rulemaking will fulfill DOE's statutory obligation under the Energy Policy and Conservation Act, as amended, (EPCA) to either propose amended energy conservation standards for commercial water heaters and hot water supply boilers (CWHs), or determine that the existing standards do not need to be amended. (Unfired hot water storage tanks and commercial heat pump water heaters are being considered in a separate rulemaking.) DOE must determine whether national standards more stringent than those that are currently in place would result in a significant additional amount of energy savings and whether such amended national standards would be technologically feasible and economically justified. DOE proposed to amend the standards for certain classes of CWH equipment for which DOE has tentatively determined there is clear and convincing evidence to support more-stringent standards. Additionally, DOE has proposed to codify standards for electric instantaneous CWH equipment from EPCA into the Code of Federal Regulations.

Timetable:

Action | Date | FR Cite
Request for Information (RFI) | 10/21/14 | 79 FR 62899
RFI Comment Period End | 11/20/14
NPRM | 05/31/16 | 81 FR 34440
NPRM Comment Period End | 08/01/16
NPRM Comment Period Reopened | 08/05/16 | 81 FR 51812
NPRM Comment Period Reopened End | 08/30/16
Notice of Data Availability (NODA) | 12/23/16 | 81 FR 94234
NODA Comment Period End | 01/09/17
Notice of NPRM Withdrawal | 01/15/21 | 86 FR 3873
NPRM | 05/19/22 | 87 FR 30610
NPRM Comment Period End | 07/18/22
NPRM Comment Period Reopened | 07/20/22 | 87 FR 43226
NPRM Comment Period Reopened End | 08/01/22
Final Action | 07/00/23

Regulatory Flexibility Analysis Required: Yes.

Agency Contact: Julia Hegarty, Department of Energy, 1000 Independence Avenue SW, Washington, DC 20585, Phone: 240 597-6737, Email: julia.hegarty@ee.doe.gov.

RIN: 1904-AD34

63. Energy Conservation Standards for Consumer Clothes Washers [1904-AD98]

Legal Authority: 42 U.S.C. 6295(g); 42 U.S.C. 6295(m)

Abstract: Consistent with the requirements under the Energy Policy and Conservation Act (EPCA), as amended, the U.S. Department of Energy (DOE) is examining whether to amend the current energy conservation standards for consumer clothes washers found at 10 CFR 430.32(g). To this end, DOE must determine whether standards more stringent than those currently in place would result in a significant amount of energy savings and whether such amended standards would be technologically feasible and economically justified. DOE has tentatively proposed standards that represent the maximum improvement in energy efficiency that is technologically feasible and economically justified, and would result in the significant conservation of energy. Specifically, with regards to technological feasibility, products achieving these standard levels are already commercially available for all product classes covered by this proposal. As for economic justification, DOE's analysis shows that the benefits of the proposed standard exceed the burdens. Once completed, this rulemaking will fulfill DOE's statutory obligation to either propose amended standards for this product or determine that the standards do not need to be amended.

Timetable:

Action | Date | FR Cite
Request for Information (RFI) | 08/02/19 | 84 FR 37794
RFI Comment Period Extended | 08/26/19 | 84 FR 44557
RFI Comment Period Extended End | 10/03/19
RFI Comment Period Reopened | 10/03/19 | 84 FR 52818
RFI Comment Period Reopened End | 10/17/19
Preliminary Analysis and Notice of Webinar | 09/29/21 | 86 FR 53886
Preliminary Analysis Comment Period Extended | 10/29/21 | 86 FR 59889
Preliminary Analysis Comment Period Extended End | 01/27/22
Notice of Data Availability (NODA) | 04/13/22 | 87 FR 21816
NODA Comment Period End | 05/13/22
NODA Comment Period Reopened | 05/19/22 | 87 FR 30433
NODA Comment Period Reopened End | 05/27/22
NPRM | 03/03/23 | 88 FR 13520
NPRM Comment Period Extended | 05/01/23 | 88 FR 26511
NPRM Comment Period Extended End | 05/17/23
Final Action | 12/00/23

Regulatory Flexibility Analysis Required: Yes.

Agency Contact: Bryan D. Berringer, Building Technologies Office, EE-5B, Department of Energy, Energy Efficiency and Renewable Energy, 1000 Independence Avenue SW, Washington, DC 20585, Phone: 202 586-0371, Email: bryan.berringer@ee.doe.gov.

RIN: 1904-AD98

64. Test Procedure for Consumer Water Heaters and Residential-Duty Commercial Water Heaters [1904-AE77]

Legal Authority: 42 U.S.C. 6293(b)(1)(A); 42 U.S.C. 6314(a)(1)

Abstract: Consistent with the requirements under the Energy Policy and Conservation Act (EPCA), as amended, the U.S. Department of Energy (DOE) is examining whether to amend the current test procedure for consumer water heaters and certain commercial water heaters found at 10 CFR 430, subpart B, appendix E and 10 CFR 431.106. As a result of this effort, DOE may propose and amend the test procedures for this product/equipment, or issue a determination that no amendments to the current test procedures are required.

Timetable:

Action | Date | FR Cite
Request for Information (RFI) | 04/16/20 | 85 FR 21104
RFI Comment Period End | 06/01/20
RFI Comment Period Reopened | 06/10/20 | 85 FR 35382
RFI Comment Period Reopened End | 06/24/20
NPRM | 01/11/22 | 87 FR 1554
NPRM; Correction | 01/19/22 | 87 FR 2731
NPRM Comment Period End | 03/14/22
Supplemental NPRM | 07/14/22 | 87 FR 42270
Supplemental NPRM Comment Period End | 08/04/22
Final Action | 06/00/23

Regulatory Flexibility Analysis Required: Yes.

Agency Contact: Julia Hegarty, Department of Energy, 1000 Independence Avenue SW, Washington, DC 20585, Phone: 240 597-6737, Email: julia.hegarty@ee.doe.gov.

RIN: 1904-AE77

DEPARTMENT OF ENERGY (DOE)

Energy Efficiency and Renewable Energy (EE)

Long-Term Actions

65. Energy Conservation Standards for Miscellaneous Residential Refrigeration [1904-AF00]

Legal Authority: 42 U.S.C. 6292(a)(20); 42 U.S.C. 6295(l); 42 U.S.C. 6295(m)

Abstract: The U.S. Department of Energy (DOE) has initiated an effort to consider amending the energy conservation standards for miscellaneous residential refrigeration (e.g., wine coolers and certain other combination consumer refrigeration products). Once completed, this rulemaking will fulfill DOE's statutory obligation to either propose amended energy conservation standards for these products or determine that the existing standards do not need to be amended. To this end, DOE must determine whether national standards more stringent than those currently in place would result in a significant amount of energy savings and whether such amended national standards would be technologically feasible and economically justified.

In the notice of proposed rulemaking, DOE proposed standards that represent the maximum improvement in energy efficiency that is technologically feasible and economically justified, and would result in the significant conservation of energy. Specifically, with regards to technological feasibility products achieving these standard levels are already commercially available for all product classes covered by this proposal. As for economic justification, DOE's analysis shows that the benefits of the proposed standard exceed, to a great extent, the burdens of the proposed standards.

Timetable:

Action | Date | FR Cite
Request for Information (RFI); Early Assessment Review | 12/08/20 | 85 FR 78964
Comment Period End | 02/22/21
Notification of Webinar and Availability of Preliminary Technical Support Document | 01/21/22 | 87 FR 3229
Notice of rescheduled public meeting to March 7, 2022 | 02/09/22 | 87 FR 7396
Preliminary Analysis Comment Period End | 03/22/22
NPRM | 03/31/23 | 88 FR 19382
NPRM Comment Period End | 05/30/23
Final Rule | 07/00/24

Regulatory Flexibility Analysis Required: Yes.

Agency Contact: Stephanie Johnson, Phone: 202 287-1943, Email: stephanie.johnson@ee.doe.gov.

RIN: 1904-AF00

DEPARTMENT OF ENERGY (DOE)

Energy Efficiency and Renewable Energy (EE)

Completed Actions

66. • Energy Conservation Program: Energy Conservation Standards for Manufactured Housing [1904-AF53]

Legal Authority: 42 U.S.C. 17071

Abstract: The Department of Energy (DOE) is publishing a final rule to amend the compliance date for its manufactured housing energy conservation standards. Currently, manufacturers must comply with these standards on and after May 31, 2023. This final rule delays compliance until July 1, 2025, for Tier 2 homes, and until 60 days after issuance of enforcement procedures for Tier 1 homes. DOE is delaying the compliance date to allow DOE more time to establish enforcement procedures that provide clarity for manufacturers and other stakeholders regarding DOE's expectations of manufacturers and DOE's plans for enforcing the standards. The proposed rule was inadvertently published under the incorrect RIN 1904-AC11.

Timetable:

Action | Date | FR Cite
NPRM | 03/24/23 | 88 FR 17745
NPRM Comment Period End | 04/24/23
Final Action | 05/30/23 | 88 FR 34411
Final Action Effective | 05/30/23

Regulatory Flexibility Analysis Required: Yes.

Agency Contact: Matthew Ring, Department of Energy, 1000 Independence Avenue SW, Washington, DC 20585, Phone: 202 586-2555, Email: matthew.ring@hq.doe.gov.

RIN: 1904-AF53

DEPARTMENT OF ENERGY (DOE)

Departmental and Others (ENDEP)

Final Rule Stage

67. • Statutory Updates to the Advanced Technology Vehicles Manufacturing Incentive Program [1901-AB60]

Legal Authority: 42 U.S.C. 17013(d); 42 U.S.C. 17013(e)

Abstract: The U.S. Department of Energy (DOE) Loan Programs Office (LPO) intends to issue a direct final rule to amend the regulations applicable to the Advanced Technology Vehicles Manufacturing (ATVM) Loan Program authorized by section 136 of the Energy Independence and Security Act of 2007, as amended (42 U.S.C. 17013) to allow parties to apply for direct loans in connection with certain categories projects made eligible for such loans by the Infrastructure Investment and Jobs Act of 2021 and the Inflation Reduction Act. Relatedly, LPO is also pursuing another rulemaking effort via 1901-AB55 to address additional changes for the ATVM Loan Program.

Timetable:

Action | Date | FR Cite
Direct Final Rule | 06/00/23

Regulatory Flexibility Analysis Required: Yes.

Agency Contact: Rebecca Limmer, Chief Counsel, Department of Energy, 1000 Independence Avenue SW, Washington, DC 20585, Phone: 202 586-1174, Email: rebecca.limmer@hq.doe.gov.

RIN: 1901-AB60

[FR Doc. 2023-14543 Filed 7-26-23; 8:45 am]

BILLING CODE 6450-01-P